DEPARTMENT OF JUSTICE

Notice of Lodging of Proposed Consent Decree

Notice is hereby given that a proposed Consent Decree in Washington, et al. v. United States of America, Civil Action No. 06-05225-RJB (W.D. Wash.), was lodged with the United States District Court for the Western District of Washington on May 8, 2006.

The proposed Consent Decree concerns a complaint filed by the State of Washington, the Puyallup Tribe of Indians and the Muckleshoot Indian Tribe against the United States pursuant to the Comprehensive Environmental Response, Compensation, and Liability Act, 42 U.S.C. 9601, et seq., and the Model Toxics Control Act, Wash. Rev. Code 70.105D, for natural resource damages in Commencement Bay, Washington, resulting from releases of hazardous substances. Under the Consent Decree, the United States will pay $13,536,760.33 in natural resource damages and assessment costs in return for dismissal of all claims.

The Department of Justice will receive written comments relating to the proposed Consent Decree for a period of thirty (30) days from the date of publication of this notice. Comments should be addressed to the Assistant Attorney General, Environment and Natural Resources Division, United States Department of Justice, Attention: James L. Nicoll, U.S. Department of Justice, NOAA GC-DOJ DARC, 7600 Sand Point Way NE., Seattle, WA 98115, and should refer to Washington v. United States, DJ Reference No. 90-11-6-16908.

The proposed Consent Decree may be viewed at http://www.usdoj.gov/enrd/open.html. It may also be examined at the Clerk's Office, United States District Court, 1717 Pacific Avenue Tacoma, WA 98402.

Russell M. Young,
Assistant Chief, Environmental Defense Section, Environment and Natural Resources Division, United States Department of Justice.

[FR Doc. 06-4830 Filed 5-24-06; 8:45 am]

BILLING CODE 4410-15-M